DEPARTMENT OF THE INTERIOR

National Park Service

[NPS-WASO-NAGPRA-NPS0024990; PPWOCRADN0-PCU00RP14.R50000]

Notice of Inventory Completion: San Luis Obispo County Archaeological Society, San Luis Obispo, CA

AGENCY: National Park Service, Interior.

ACTION: Notice.

SUMMARY: The San Luis Obispo County Archaeological Society (SLOCAS), assisted by the Fowler Museum at UCLA, has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to SLOCAS. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to SLOCAS at the address in this notice by March 26, 2018.

ADDRESSES: Christina MacDonald, SLOCAS, P.O. Box 109, San Luis Obispo, CA 93406, telephone (805) 549-3493, email christina@slocas.org.

SUPPLEMENTARY INFORMATION: Notice is here given in accordance with the Native American Graves Protection and Repatriation Act (NAGPRA), 25 U.S.C. 3003, of the completion of an inventory of human remains under the control of SLOCAS, San Luis Obispo, CA. The human remains were removed from Los Osos, San Luis Obispo County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Fowler Museum at UCLA professional staff in consultation with representatives of Santa Ynez Band of Chumash Mission Indians of the Santa Ynez Reservation, California, and the Northern Chumash Tribe, a non-federally recognized Indian group.

History and Description of the Remains

In 2014, human remains representing, at minimum, two individuals were identified in an archived collection at SLOCAS from CA-SLO-14, also known as the Sweet Springs and/or the Cypress Village site, which is located in Los Osos, San Luis Obispo County, CA. Between 1970 and 1975, Jay Von Werlhoff directed excavations at CA-SLO-14 with the assistance of his students at Cuesta College and Cal Poly San Luis Obispo, as well as members of SLOCAS. Following completion of the excavation, SLOCAS took possession of the collection. Neither Von Werlhoff nor SLOCAS ever published a report on this work. Later work at the site produced material that yielded a radiocarbon date of 3706 BP.

Between 2005 and 2014, archeological studies were conducted at CA-SLO-14 by Far Western Anthropological Research Group, Inc., as part of a wastewater management (sewer) project undertaken by San Luis Obispo (SLO) County Public Works. Far Western and SLO County contacted SLOCAS and arranged the loan of the materials collected from CA-SLO-14 by Jay Von Werlhoff in the 1970s. Far Western used the Von Werlhoff collection for comparison with the collection recovered as part of the SLO County Public Works project. As part of mitigation of the effect of the SLO County project on CA-SLO-14, Far Western reanalyzed the Von Werlhoff collection faunal material. As a result, Far Western discovered that human remains had been incorrectly identified as faunal material. Wendy Teeter of The Fowler Museum at UCLA and Karimah Kennedy Richardson of the Autry Museum performed a human remains analysis of these materials on July 21, 2017. No known individuals were identified. No associated funerary objects are present.

SLOCAS determined the human remains from CA-SLO-14 are culturally affiliated with the Chumash due to past consultation efforts of SLO County regarding human remains from CA-SLO-14. The Santa Ynez Band of Chumash Indians (SYBCI) is the only federally recognized Chumash tribe. In an MOA between SLO County and SYBCI, the SYBCI were identified as the federally recognized tribe with cultural affiliation to CA-SLO-14. Ethnographic evidence also points to the Chumash as being culturally affiliated with the area where CA-SLO-14 is located as it is near the village site of Petpatsu which has been attributed to the Chumash in Randall Milliken and John Johnson's 2005 publication An Ethnogeography of Salinan and Northern Chumash Communities—1769 to 1810 (p. 87, 100).

Determinations Made by SLOCAS

Officials of SLOCAS have determined that:

• Pursuant to 25 U.S.C. 3001(9), the human remains described in this notice represent the physical remains of two individuals of Native American ancestry.

• Pursuant to 25 U.S.C. 3001(2), there is a relationship of shared group identity that can be reasonably traced between the Native American human remains and the Santa Ynez Band of Chumash Mission Indians of the Santa Ynez Reservation, California.

Additional Requestors and Disposition

Lineal descendants or representatives of any Indian tribe or Native Hawaiian organization not identified in this notice that wish to request transfer of control of these human remains should submit a written request with information in support of the request to Christina MacDonald, SLOCAS, P.O. Box 109, San Luis Obispo, CA 93406, telephone (805) 549-3493, email christina@slocas.org, by March 26, 2018. After that date, if no additional requestors have come forward, transfer of control of the human remains to the Santa Ynez Band of Chumash Mission Indians of the Santa Ynez Reservation, California, may proceed.

SLOCAS is responsible for notifying the Santa Ynez Band of Chumash Mission Indians of the Santa Ynez Reservation, California, and the Northern Chumash Tribe, a non-federally recognized Indian group, that this notice has been published.

Dated: February 2, 2018.
Melanie O'Brien,
Manager, National NAGPRA Program.

[FR Doc. 2018-03755 Filed 2-22-18; 8:45 am]

BILLING CODE 4312-52-P